DEPARTMENT OF COMMERCE

Office of the Secretary

48 CFR Part 1353

[Docket No.: 250325-0051]

RIN 0605-AA69

Removal of Form CD 570 From the Commerce Acquisition Regulation

AGENCY: Office of the Secretary, Department of Commerce.

ACTION: Final rule.

SUMMARY: The Department of Commerce (Commerce) is issuing this final rule to remove the internal procedures of Form CD-570, small business review form, the Commerce Acquisition Regulation (CAR). The purpose of the administrative rulemaking is to transition internal policies from the public facing regulation to the internal Commerce Acquisition Manual (CAM).

DATES: Effective May 12, 2025.

FOR FURTHER INFORMATION CONTACT: For clarification of content, contact Mr. Edward Williams, Senior Procurement Analyst, at 240-482-5242, or by email at ewilliams1@doc.gov.

SUPPLEMENTARY INFORMATION:

Background

Commerce is issuing this final rule to transition the internal procedures of completing the CD-570, small business review form, from the public. The purpose of the administrative rulemaking is to align the current and correct practices of the Department of Commerce with the documented process and procedures outlined in regulation and policy. The CD-570 remains a requirement, however, instruction for administration will reside within the CAM. This change allows faster transition of evolving policies and practices within Commerce without bringing disruption to external entities. Contracting Officers will be required to comply with the content requirements set forth in CAM 1319.70 when documenting their small business form for vetting.

Classification

This final rule contains no information collection requirements under the Paperwork Reduction Act of 1995.

This final rule has been determined to be not significant for purposes of Executive Order 12866.

This final rule is being issued in compliance with Executive Order 14192.

Pursuant to 5 U.S.C. 553(b)(A), the provisions of the Administrative Procedure Act requiring notice of proposed rulemaking and the opportunity for public participation are inapplicable to rulemakings that are rules of agency organization, procedure, or practice. This rule only removes the instruction for completing Form CD-570 from the CAR but the instruction will remain in the CAM which will remain publicly available. This final rule is a routine organizational rule. Therefore, this rule qualifies for exemption and no public notice and comment period is required.

Additionally, Commerce finds good cause to waive the notice and public comment period for this rule because the effect of the rule does not place any burden on the public or require the public to undertake or cease any particular action. Therefore, a public notice and comment period would be unnecessary and qualifies for waiver under the APA (see 5 U.S.C. 553(b)(B)).

List of Subjects in 48 CFR Part 1353

Government procurement, Reporting and recordkeeping requirements.

Olivia J. Bradley,
Senior Procurement Executive and Director for Acquisition Management.

For the reasons set out in the preamble, the Department of Commerce amends 48 CFR part 1353 as follows:

PART 1353—FORMS

1. The authority citation for part 1353 continues to read as follows:

Authority: 41 U.S.C. 414; 48 CFR 1.301-1.304.

Subpart 1353.2—[Removed and Reserved]

2. Remove and reserve subpart 1353.2.

[FR Doc. 2025-06215 Filed 4-10-25; 8:45 am]

BILLING CODE 3510-03-P